COMMISSION ON CIVIL RIGHTS

Agenda and Notice of Public Meeting of the Florida Advisory Committee

Notice is hereby given, pursuant to the provisions of the rules and regulations of the U.S. Commission on Civil Rights and the Federal Advisory Committee Act (FACA), that a briefing and planning meeting of the Florida Advisory Committee to the U.S. Commission on Civil Rights will convene at 1 p.m. and adjourn at 5:30 p.m. on Tuesday, April 17, 2007, at the Hyatt Regency Tampa, Two Tampa City Center, Tampa, Florida, 33602. The purpose of these meetings is for the Committee to receive two briefings and to plan its activities regarding its project on the restoration of voting rights for ex-felons. The first briefing will be on religious freedom for prisoners, and the second briefing will be on voting rights for ex-felons.

Members of the public are entitled to submit written comments. The comments must be received in the regional office by May 17, 2007. The address is 61 Forsyth St., SW., Suite 1840T, Atlanta, GA 30303. Persons wishing to e-mail their comments, or to present their comments verbally at the meeting, or who are seeking additional information should contact Peter Minarik, Regional Director, Southern Regional Office, U.S. Commission on Civil Rights at 404-562-7000, (or for the hearing impaired TDD 202-376-8116), or by e-mail: pminarik@usccr.gov.

Hearing-impaired persons who will attend the meeting and require the services of a sign language interpreter should contact the Regional Office at least ten (10) working days before the scheduled date of the meeting.

Records generated from these meetings may be inspected and reproduced at the Southern Regional Office, as they become available, both before and after the meeting. Persons interested in the work of this advisory committee are advised to go to the Commission's Web site, http://www.usccr.gov, or to contact Peter Minarik at the above address or e-mail.

The meeting will be conducted pursuant to the provisions of the rules and regulations of the Commission and FACA.

Dated at Washington, DC, March 19, 2007.
Ivy Davis,
Acting Chief, Regional Programs Coordination Unit.

[FR Doc. E7-5381 Filed 3-22-07; 8:45 am]

BILLING CODE 6335-01-P